DEPARTMENT OF COMMERCE

National Oceanic and Atmospheric Administration

RIN 0648-XC554

Marine Mammals; File No. 17952

AGENCY: National Marine Fisheries Service (NMFS), National Oceanic and Atmospheric Administration (NOAA), Commerce.

ACTION: Notice; issuance of permit amendment.

SUMMARY: Notice is hereby given that a major amendment to Permit No. 17952-01 has been issued to Daniel P. Costa, Ph.D., Department of Biology and Institute of Marine Sciences, University of California, Santa Cruz, CA 95064.

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan or Rosa L. González, (301) 427-8401.

SUPPLEMENTARY INFORMATION: On August 17, 2015, notice was published in the Federal Register (80 FR 49210) that a request for an amendment to Permit No. 17952-01 to conduct research on California sea lions (Zalophus californianus) had been submitted by the above-named applicant. The requested permit amendment has been issued under the authority of the Marine Mammal Protection Act of 1972, as amended (16 U.S.C. 1361 et seq.), and the regulations governing the taking and importing of marine mammals (50 CFR part 216).

Permit No. 17952 authorized long-term research on California sea lions to study their foraging, diving, energetics, food habits, and at sea distribution through capture, sampling, and tagging California sea lions throughout their U.S. range (California, Oregon and Washington). The permit also authorized harassment of California sea lions, harbor seals (Phoca vitulina), and northern elephant seals (Mirounga angustirostris) incidental to research activities, unintentional mortalities of California sea lions, and import and export of pinniped samples. A minor amendment (Permit No. 17952-01) included attachment of cameras to instrumentation deployed on sea lions and intubation during gas anesthesia.

Permit No. 17952-02, issued on September 30, 2015, includes authorization to (1) add remote darting as an approved capture method with use of various sedative drugs for adult and juvenile California sea lions, (2) increase incidental harassment takes of non-target California sea lions, (3) include incidental harassment takes for the Eastern stock of Steller sea lions (Eumetopias jubatus), and (4) include takes for capture and disentanglement of California sea lions. The authorized takes are delineated in the amendment application and amended permit and are authorized for the duration of the permit. The permit expires June 7, 2018.

In compliance with the National Environmental Policy Act of 1969 (42 U.S.C. 4321 et seq.), a final determination has been made that the activity proposed is categorically excluded from the requirement to prepare an environmental assessment or environmental impact statement.

Dated: October 29, 2015.
Julia Harrison,
Chief, Permits and Conservation Division, Office of Protected Resources, National Marine Fisheries Service.

[FR Doc. 2015-28841 Filed 11-13-15; 8:45 am]

BILLING CODE 3510-22-P